DEPARTMENT OF HEALTH AND HUMAN SERVICES

Administration for Children and Families

Submission for OMB Review; Comment Request

Title: Personal Responsibility Education Program (PREP) Multi-Component Evaluation.

OMB No.: New Collection.

Description: The Family and Youth Services Bureau (HHS/ACF/ACYF/FYSB) and the Office of Planning, Research, and Evaluation (HHS/ACF/OPRE) in the Administration for Children and Families (ACF) are proposing a data collection activity to be undertaken for the Personal Responsibility Education Program (PREP) Multi-Component Evaluation.

The impact study included in the PREP Multi-Component Evaluation is a random assignment evaluation which will expand available evidence on whether the replication of evidence-based effective programs, or the substantial incorporation of elements of these programs, funded as part of the Personal Responsibility Education Program, are effective at delaying sexual activity, increasing condom or contraceptive use for sexually active youth, or reducing pregnancy among youth. The evaluation will document and test a range of pregnancy prevention approaches in up to five program sites. The findings from the evaluation will be of interest to the general public, to policy-makers, and to organizations interested in teen pregnancy prevention.

This Federal Register Notice is to notify the public regarding field data collection for the “Impact and In-Depth Implementation Study” component of the Personal Responsibility 'Education Program (PREP) Multi-Component Evaluation.

The proposed field data collection activity involves the collection of information from interviews, focus groups, and short surveys with a range of experts and persons involved with programs about various aspects of existing prevention programs and topics the experts view as important to address through evaluation. Interviews and short surveys will focus on information leading to site selection. These data will be also used to help enhance decisions about the types of programs to be evaluated in the study.

Respondents

Researchers; Policy Experts; State Level Coordinators; Program Directors; Program Staff; Program Participants; School Administrators.

Annual Burden Estimates
Field data collection instrument clearance: Instrument | Field data collection instrument clearance: Annual number of respondents | Field data collection instrument clearance: Number of responses per respondent | Field data collection instrument clearance: Average burden hours per response | Field data collection instrument clearance: Total burden hours
Discussion Guide for Use with Researchers, Policy Experts, and Macro-Level Coordinators | 10 | 1 | 1 | 10
Discussion Guide for Use with Program Directors | 20 | 2 | 2 | 80
Discussion Guide for Use with Program Staff | 40 | 1 | 2 | 80
Focus Group Discussion Guide for Use with Program Participants | 100 | 1 | 1.5 | 150
Discussion Guide for Use with School Administrators | 70 | 1 | 1 | 70
Short Survey with Program Directors | 70 | 1 | 0.25 | 17.5
Short Survey with Program Staff | 140 | 1 | 0.25 | 35
Short Survey with School Administrators | 70 | 1 | 0.25 | 17.5
Estimated Annual Burden Total for Field Clearance |  |  |  | 460

Additional Information

Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: July 1, 2011.
Steven M. Hanmer,
OPRE Reports Clearance Officer.

[FR Doc. 2011-16977 Filed 7-7-11; 8:45 am]

BILLING CODE 4184-37-M